BROADCASTING BOARD OF GOVERNORS

Sunshine Act Meeting

DATE AND TIME: Thursday, April 14, 2011; 3:45 p.m.-4 p.m.

PLACE: Radio Free Asia Headquarters, 2025 M St., NW., Washington, DC 20036.

SUBJECT: Notice of Closed Meeting of the Broadcasting Board of Governors.

SUMMARY: At the time and location listed above, the Broadcasting Board of Governors (BBG) determined to conduct a meeting closed to the public pursuant to 5 U.S.C. 552b(c)(6). The meeting was closed to protect privacy concerns during the consideration of potential appointees to serve as the Director of the Voice of America. Although discussion of the matter in an open setting was considered, the potential consequences of disclosing the identities and circumstances of individuals considered for appointment compelled the Board to close the meeting to public observation. The Board also determined that shorter than usual notice for a meeting was required by official agency business and the delayed availability of required information.

Members Vote To Close the Meeting

Walter Isaacson—Yes.

Victor Ashe—No.

Susan McCue—Yes.

Michael Meehan—Yes.

Dennis Mulhaupt—Yes.

Dana Perino—Yes.

S. Enders Wimbush—Yes.

Attendance

Walter Isaacson, BBG Chairman.

Victor Ashe, BBG Member.

Susan McCue, BBG Member.

Michael Meehan, BBG Member.

Dennis Mulhaupt, BBG Member.

Dana Perino, BBG Member.

S. Enders Wimbush, BBG Member.

Jeffrey Trimble, BBG Executive Director.

Richard Lobo, Director of the International Broadcasting Bureau.

Maryjean Buhler, BBG Chief Financial Officer.

Paul Kollmer-Dorsey, BBG Deputy General Counsel.

Lynne Weil, Senior Advisor to the Under Secretary for Public Diplomacy and Public Affairs.

Oanh Tran, BBG Special Projects Officer.

CONTACT PERSON FOR MORE INFORMATION: Persons interested in obtaining more information should contact Paul Kollmer-Dorsey at (202) 203-4545.

Paul Kollmer-Dorsey,
Deputy General Counsel.

[FR Doc. 2011-9714 Filed 4-18-11; 4:15 pm]

BILLING CODE 8610-01-P